POSTAL REGULATORY COMMISSION

[Docket No. N2022-1; Presiding Officer's Ruling No. 1]

Service Standard Changes

AGENCY: Postal Regulatory Commission.

ACTION: Notice.

SUMMARY: The Commission is providing notice that a hearing and certain procedural events have been removed from the procedural schedule in this proceeding. This notice informs the public of the modified procedural schedule.

ADDRESSES: For additional information, Presiding Officer's Ruling No. 1 can be accessed electronically through the Commission's website at https://www.prc.gov.

FOR FURTHER INFORMATION CONTACT: David A. Trissell, General Counsel, at 202-789-6820.

SUPPLEMENTARY INFORMATION: On April 14, 2022, the Postal Service filed a motion for consideration of its stipulation and agreement regarding the advisory opinion in this proceeding in accordance with 39 CFR 3010.320.¹ The Stipulation and Agreement, negotiated between the only two parties in this proceeding—the Postal Service and the Public Representative, concerns certain procedural and evidentiary matters. Specifically, the Postal Service and the Public Representative agree that the direct testimony of Postal Service witnesses, supporting Library References, and any designated response to the Presiding Officer's Information Requests provide substantial evidence supporting an advisory opinion. Motion, Stipulation and Agreement at 2.

¹ Motion of the United States Postal Service for Consideration of the Stipulation and Agreement as the Basis for Advisory Opinion, April 14, 2022 (Motion).

They also agree that neither a hearing nor oral argument or examination are necessary in determining whether the proposed service standard changes are in accordance with the policies of Title 39 of the United States Code and in furtherance of the public interest. Id. In addition, they agree that they will file no further discovery requests or testimony, unless requested by the Commission. However, both parties reserve the right to submit initial or reply briefs, if necessary. Id.

The Postal Service states that it will move for the admission into record evidence the testimonies and supporting documentation. Id. The Postal Service also states that it will move for the adoption of a revised procedural schedule, removing the dates for the hearing, modifying the deadline to file designated materials, and shortening the time to file reply briefs, if necessary:

• Deadline of Discovery Requests: April 18, 2022

• Deadline for Discovery Responses: April 25, 2022

• Notice of Designations: April 26, 2022

• Filing Designated Materials: April 27, 2022

• Initial Brief: May 11, 2022

• Statements of Position: May 11, 2022

• Reply Brief (if needed): May 13, 2022

Id. at 2-3. The Motion is granted. Having considered the Stipulation and Agreement, the Presiding Officer finds that, based on the agreement between parties, certain procedural events can be removed from the schedule. See 39 CFR 3020.110(b). Moreover, adopting the Stipulation and Agreement will not affect the ability of interested parties to participate (i.e., file statements of position) in this proceeding.

Accordingly, the Presiding Officer adopts the revised schedule as proposed by the Postal Service.² Accompanying this Ruling is an updated version of the Procedural Schedule (Attachment) for Docket No. N2022-1.

² The Postal Service has not yet filed its motion to admit evidence into the record. On April 15, 2022, the Postal Service filed a notice of revisions to certain direct testimonies and stated that the revised pages will be incorporated into the final version of those testimonies when they are presented for inclusion into the evidentiary record. See Notice of the United States Postal Service of Revisions to Certain Pages of USPS-T-1 and USPS-T-3—Errata, April 15, 2022, at 1-2. The Presiding Officer will rule on the Postal Service's motion once it has been filed.

Ruling

It is ordered:

1. The Motion of the United States Postal Service for Consideration of the Stipulation and Agreement as the Basis for Advisory Opinion, filed April 14, 2022, is granted.

2. The modified procedural schedule for this proceeding is set forth below the signature of this Ruling.

3. The Secretary shall arrange for publication of this Ruling in the Federal Register.

Erica A. Barker,
Secretary.

Procedural Schedule for Docket No. N2022-1
[Updated April 19, 2022]
Discovery Deadlines for the Postal Service's Direct Case:
Filing of Discovery Requests | April 18, 2022.
Filing of the Postal Service's Answers to Discovery | April 25, 2022.
Deadlines in Preparation for Hearing (assuming no rebuttal case):
Filing of Notice of Designations | April 26, 2022.
Filing of Notices of Designated Materials | April 27, 2022.
Briefing Deadlines:
Filing of Initial Briefs | May 11, 2022.
Filing of Reply Briefs | May 13, 2022.
Statement of Position Deadline:
Filing of Statement of Position | May 11, 2022.
Advisory Opinion Deadline:
Filing of Advisory Opinion (absent determination of good cause for extension) | June 21, 2022.

[FR Doc. 2022-08765 Filed 4-22-22; 8:45 am]

BILLING CODE 7710-FW-P